DEPARTMENT OF THE INTERIOR

National Park Service

[NPS-WASO-NAGPRA-NPS0027382; PPWOCRADN0-PCU00RP14.R50000]

Notice of Inventory Completion: Oregon State University, NAGPRA Office, Corvallis, OR

AGENCY: National Park Service, Interior.

ACTION: Notice.

SUMMARY: The Oregon State University, NAGPRA Office, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Oregon State University NAGPRA Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Oregon State University, NAGPRA Office at the address in this notice by April 29, 2019.

ADDRESSES: Dawn Marie Alapisco, Oregon State University, NAGPRA Office, 106 Gilkey Hall, Corvallis, OR 97331 telephone (541) 737-4075, email dawnmarie.alapisco@oregonstate.edu.

SUPPLEMENTARY INFORMATION: Notice is here given in accordance with the Native American Graves Protection and Repatriation Act (NAGPRA), 25 U.S.C. 3003, of the completion of an inventory of human remains and associated funerary objects under the control of the Oregon State University, NAGPRA Office. The human remains and associated funerary objects were removed from site 35LNC50, Lincoln County, OR; an unknown location along the Oregon Coast; and Yaquina Bay, Lincoln County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Oregon State University, Department of Anthropology professional staff in consultation with representatives of the Confederated Tribes of Siletz Indians of Oregon (previously listed as the Confederated Tribes of the Siletz Reservation). The Burns Paiute Tribe (previously listed as the Burns Paiute Tribe of the Burns Paiute Indian Colony of Oregon); Confederated Tribes of the Coos, Lower Umpqua and Siuslaw Indians; Confederated Tribes of the Grand Ronde Community of Oregon; Confederated Tribes of the Umatilla Indian Reservation (previously listed as the Confederated Tribes of the Umatilla Reservation, Oregon); Confederated Tribes of the Warm Springs Reservation of Oregon; Coquille Indian Tribe (previously listed as the Coquille Tribe of Oregon); Cow Creek Band of Umpqua Indians (previously listed as the Cow Creek Band of Umpqua Indians of Oregon); and Klamath Tribes were invited to consult but did not participate. Hereafter, all of the above Indian Tribes are referred to as “The Consulted and Notified Tribes.”

History and Description of the Remains

At an unknown date, possibly in 1980, human remains representing, at minimum, one individual were removed from site 35LNC50, on the north side of Yaquina Head in Lincoln County, OR. Sometime after 2004, these human remains, together with one object, were found in a bag along with a note reading “from 35LNC50.” As Dr. Richard E. Ross and Sandra L. Snyder, both associated with the Department of Anthropology at Oregon State University (OSU), excavated 35LNC50 in 1980, it is believed that these human remains are from that excavation. No known individuals were identified. The one associated funerary object is a lithic flake.

The Confederated Tribes of the Siletz Reservation, Oregon, are a confederation of 30 bands whose ancestral territory ranged along the entire Oregon coast and Coast Range, inland to the main divide of the Cascade Range, and southward to the Rogue River watershed and included site 35LNC50.

In July 1974, human remains representing, at minimum, one individual were removed from “Tom Creek,” possibly located somewhere on the Oregon Coast according to documentation accompanying the human remains. No known individuals were identified. No associated funerary objects are present.

In 1957, human remains representing, at minimum, two individuals were removed from the south shore of Yaquina Bay in Lincoln County, OR. An OSU professor walking on the south shore of Yaquina Bay found the human remains and took them home. In March of 1994 he gave the human remains to the Department of Anthropology at OSU. No known individuals were identified. The one associated funerary object is a faunal talus bone.

Determinations Made by Oregon State University, NAGPRA Office

Officials of Oregon State University, NAGPRA Office have determined that:

• Pursuant to 25 U.S.C. 3001(9), the human remains described in this notice represent the physical remains of four individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and the Confederated Tribes of Siletz Indians of Oregon (previously listed as the Confederated Tribes of the Siletz Reservation).

Additional Requestors and Disposition

Lineal descendants or representatives of any Indian Tribe or Native Hawaiian organization not identified in this notice that wish to request transfer of control of these human remains and associated funerary objects should submit a written request with information in support of the request to Dawn Marie Alapisco, Oregon State University, NAGPRA Office, 106 Gilkey Hall, Corvallis, OR 97331 telephone (541) 737-4075, email dawnmarie.alapisco@oregonstate.edu, by April 29, 2019. After that date, if no additional requestors have come forward, transfer of control of the human remains and associated funerary objects to the Confederated Tribes of Siletz Indians of Oregon (previously listed as the Confederated Tribes of the Siletz Reservation) may proceed.

Oregon State University, NAGPRA Office is responsible for notifying The Consulted and Notified Tribes that this notice has been published.

Dated: February 25, 2019.
Melanie O'Brien,
Manager, National NAGPRA Program.

[FR Doc. 2019-05991 Filed 3-27-19; 8:45 am]

BILLING CODE 4312-52-P